Title 3—

The President

Memorandum of May 15, 2009

Memorandum for the Chair of the Council On Environmental Quality

Assignment of Reporting Function Under the American Recovery And Reinvestment Act of 2009

By the authority vested in me as President by the Constitution and the laws of the United States, including section 301 of title 3, United States Code, I hereby assign to you the authority to perform the function conferred upon the President by section 1609(c) of Division A of the American Recovery and Reinvestment Act of 2009 (Public Law 111-5) of providing specified reports to the Congress.

You are authorized and directed to publish this memorandum in the Federal Register.

THE WHITE HOUSE,

Washington, May 15, 2009

[FR Doc. E9-11982

Filed 5-19-09; 11:15 am]

Billing code 3125-W9-P